FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[June 1, 2013 thru June 30, 2013]
06/03/2013
20130870 | G | America Movil, S.A.B. de C.V.; Andrade A. Andrade; America Movil, S.A.B. de C.V.
20130880 | G | General Atlantic Partners 93, L.P.; National Christian Charitable Foundation, Inc.; General Atlantic Partners 93, L.P.
20130883 | G | America Movil, S.A.B. de C.V.; Ghazi Yassine; America Movil, S.A.B. de C.V.
20130886 | G | OCM European Principal Opportunities Fund II, L.P.; Veolia Environnement S.A.; OCM European Principal Opportunities Fund II, L.P.
20130890 | G | TowerBrook Investors III, L.P.; True Religion Apparel, Inc.; TowerBrook Investors III, L.P.
20130892 | G | TC PipeLines, LP; TransCanada Corporation; TC PipeLines, LP
20130898 | G | Tagada Holdings, Inc.; Allflex Holdings III, Inc.; Tagada Holdings, Inc.
20130902 | G | Vista Equity Partners Fund IV, L.P.; Websense, Inc.; Vista Equity Partners Fund IV, L.P.
20130906 | G | The Goldman Sachs Group, Inc.; APT Software Holdings, Inc.; The Goldman Sachs Group, Inc.
20130908 | G | MABEG/Verein zur Fordurung und Beratung der MAHLE Gruppe e.V; Behr GmbH & Co. KG; MABEG/Verein zur Fordurung und Beratung der MAHLE Gruppe e.V.
20130913 | G | Greeneden Topco S.C.A.; SoundBite Communications, Inc.; Greeneden Topco S.C.A.
06/04/2013
20130900 | G | Mitsui & Co., Ltd.; Francisco Riberas Mera; Mitsui & Co., Ltd.
20130905 | G | Mellanox Technologies, Ltd.; Kotura, Inc.; Mellanox Technologies, Ltd.
20130907 | G | Mitsui & Co., Ltd.; Juan Maria Ribera Mera; Mitsui & Co., Ltd.
20130916 | G | Furukawa Electric Co., LTD; Tri-Arrows Aluminum Holding, Inc.; Furukawa Electric Co., LTD.
06/05/2013
20130842 | G | ValueAct Capital Master Fund, L.P.; Microsoft Corporation; ValueAct Capital Master Fund, L.P.
20130899 | G | O. Bruton Smith; Murray Motor Imports Co.; O. Bruton Smith
20130904 | G | GS Apple Investors 2011, LLC; New Tacala of Delaware, Inc.; GS Apple Investors 2011, LLC.
06/06/2013
20130878 | G | Taconic Opportunity Offshore Fund Ltd.; WPX Energy, Inc.; Taconic Opportunity Offshore Fund Ltd.
20130879 | G | Taconic Opportunity Fund L.P.; WPX Energy, Inc.; Taconic Opportunity Fund L.P.
20130897 | G | Yahoo! Inc.; Tumblr, Inc.; Yahoo! Inc.
20130915 | G | Greenbriar Equity Fund II L.P.; CI (Transplace) Co-Investment Partners, L.P.; Greenbriar Equity Fund II L.P.
06/07/2013
20130893 | G | Accenture plc; Acquity Group Limited; Accenture plc.
20130903 | G | Brown & Brown Inc.; Beecher Carlson Holdings, Inc.; Brown & Brown Inc.
20130909 | G | Campbell Soup Company; Plum Inc.; Campbell Soup Company.
20130914 | G | Clearlake Capital Partners III, LP; Archer Limited; Clearlake Capital Partners III, LP.
06/10/2013
20130912 | G | Teays River Investments, LLC; Remington Hybrid Seed Company, Inc.; Teays River Investments, LLC.
20130919 | G | Pik Holdings, Inc.; EGWP, LLC; Pik Holdings, Inc.
06/12/2013
20130765 | G | Stiftelsen Det Norske Veritas; Mayfair Vermogensverwaltungs SE; Stiftelsen Det Norske Veritas.
20130872 | G | Glenview Offshore Opportunity Fund, Ltd.; Health Management Associates, Inc.; Glenview Offshore Opportunity Fund, Ltd.
20130873 | G | Glenview Institutional Partners, L.P.; Health Management Associates, Inc.; Glenview Institutional Partners, L.P.
20130874 | G | Glenview Capital Opportunity Fund, L.P.; Health Management Associates, Inc.; Glenview Capital Opportunity Fund, L.P.
20130876 | G | Glenview Capital Partners (Cayman), Ltd.; Health Management Associates, Inc.; Glenview Capital Partners (Cayman), Ltd.
20130926 | G | Domtar Corporation; Brandon Wang; Domtar Corporation.
06/13/2013
20130866 | G | Ares Partners Management Company LLC; MT SPV LLC; Ares Partners Management Company LLC.
20130895 | G | Exchange Control Partnership, L.P.; Ebix, Inc.; Exchange Control Partnership, L.P.
06/14/2013
20130864 | G | Alliant Techsystems Inc.; Wells Fargo & Company; Alliant Techsystems Inc.
20130922 | G | Astronics Corporation; PECO, Inc.; Astronics Corporation.
20130927 | G | Andrea Pignataro; Welsh, Carson, Anderson & Stowe XI, L.P.; Andrea Pignataro.
20130934 | G | SpinCo; Bain Capital Fund VII, L.P.; SpinCo.
20130935 | G | Bain Capital Fund VII, L.P.; SpinCo; Bain Capital Fund VII, L.P.
20130941 | G | Nippon Steel Trading Co. Ltd.; Sumikin Bussan Corporation; Nippon Steel Trading Co. Ltd.
20130942 | G | Lindsay Goldberg III L.P.; Computer Sciences Corporation; Lindsay Goldberg III L.P.
20130943 | G | Greenbriar Equity Fund II, L.P.; Jeffrey H. Thomasson; Greenbriar Equity Fund II, L.P.
20130951 | G | Goodman Networks Inc.; Multiband Corporation; Goodman Networks Inc.
06/17/2013
20130436 | G | Tesoro Corporation; Chevron Corporation; Tesoro Corporation.
20130952 | G | Consolidated Edison, Inc.; Sempra Energy; Consolidated Edison, Inc.
20130953 | G | Arsenal Capital Partners III, LP; Fiber Holding Company; Arsenal Capital Partners III, LP.
20130954 | G | Consolidated Edison, Inc.; Sempra Energy; Consolidated Edison, Inc.
06/18/2013
20130945 | G | Lee Equity Partners Fund, L.P.; Marc A. Utay; Lee Equity Partners Fund, L.P.
20130949 | G | Umpqua Holdings Corporation; Financial Pacific Holdings, LLC; Umpqua Holdings Corporation.
06/19/2013
20130933 | G | HCA Holdings, Inc.; Secom Co., Ltd.; HCA Holdings, Inc.
06/20/2013
20130512 | G | Delta Airlines, Inc.; Virgin Group Holdings Limited; Delta Airlines, Inc.
20130889 | G | Centre Capital Investors V, L.P.; Overhill Farms, Inc.; Centre Capital Investors V, L.P.
20130896 | G | Blue Acquisition Group, Inc.; Natural Balance Pet Foods, Inc.; Blue Acquisition Group, Inc.
06/21/2013
20130930 | G | Prem Reddy; Catholic Health Initiatives; Prem Reddy.
20130939 | G | TransDigm Group Incorporated; General Electric Company; TransDigm Group Incorporated.
20130963 | G | salesforce.com, Inc.; ExactTarget, Inc.; salesforce.com, Inc.
20130965 | G | Frederic N. Eshelman; Furiex Pharmaceuticals, Inc.; Frederic N. Eshelman.
20130966 | G | Apax VIII-A L.P.; rue21, inc.; Apax VIII-A L.P.
20130971 | G | B&G Foods, Inc.; Robert's American Gourmet Foods, LLC; B&G Foods, Inc.
06/24/2013
20130958 | G | AstraZeneca PLC; Vatera Investment Partners LLC; AstraZeneca PLC.
20130975 | G | Roark Capital Partners III LP; SKM Equity Fund III, L.P.; Roark Capital Partners III LP.
20130978 | G | ACP Materials LP; Aurora Equity Partners II L.P.; ACP Materials LP.
06/26/2013
20130924 | G | AstraZeneca PLC; Omthera Pharmaceuticals, Inc.; AstraZeneca PLC.
20130948 | G | Canadian Imperial Bank of Commerce; Invesco Ltd.; Canadian Imperial Bank of Commerce.
20130957 | G | Fairfax Financial Holdings Limited; American Safety Insurance Holdings, Ltd.; Fairfax Financial Holdings Limited.
20130967 | G | Opko Health, Inc.; Prolor Biotech, Inc.; Opko Health, Inc.
20130972 | G | International Business Machines Corporation; SoftLayer Holdings, Inc.; International Business Machines Corporation.
20130979 | G | KapStone Paper and Packaging Corporation; Partners Limited; KapStone Paper and Packaging Corporation.
06/27/2013
20130823 | G | Tyman plc; Melrose Industries PLC; Tyman plc.
20130964 | G | Carl Zeiss Stiftung; Xradia, Inc.; Carl Zeiss Stiftung.
20131011 | G | Davisville Music Publishing Inc.; Sony Corporation; Davisville Music Publishing Inc.
06/28/2013
20130955 | G | Corvex Master Fund LP; Health Management Associates, Inc.; Corvex Master Fund LP.
20130984 | G | Mindray Medical International Ltd.; ZONARE Medical Systems, Inc.; Mindray Medical International Ltd.
20130991 | G | Lundin Mining Corporation; Rio Tinto plc; Lundin Mining Corporation.

FOR FURTHER INFORMATION CONTACT: Renee Chapman, Contact Representative or Theresa Kingsberry, Legal Assistant, Federal Trade Commission, Premerger Notification Office, Bureau of Competition, Room H-303, Washington, DC 20580, (202) 326-3100.

By Direction of the Commission.
Donald S. Clark,
Secretary.

[FR Doc. 2013-16540 Filed 7-10-13; 8:45 am]

BILLING CODE 6750-01-M